DEPARTMENT OF DEFENSE

Office of the Secretary

[No. DOD-2006-OS-0109]

Proposed Collection; Comment Request

AGENCY: Department of Defense, Under Secretary of Defense (Acquisition, Technology and Logistics)/Deputy Under Secretary of Defense (Industrial Policy)/Industrial Base Assessment.

ACTION: Notice.

SUMMARY: In compliance with section 3506(c)(2)(A) of the Paperwork Reduction Act of 1995, the Under Secretary of Defense (Acquisition, Technology and Logistics)/Deputy Under Secretary of Defense (Industrial Policy)/Industrial Base Assessment announces the extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 7, 2006.

ADDRESSES: You may submit comments, identified by docket number and title, by any of the following methods:

• Federal eRulemaking Portal: http://www.regulations.gov. Follow the instructions for submitted commets.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Under Secretary of Defense (Acquisition, Technology and Logistics)/Deputy Under Secretary of Defense (Industrial Policy)/Industrial Base Assessment, ATTN: Ms. Dawn Vehmeier, 3015 Defense Pentagon, Washington, DC 20301-3014, or call Industrial Base Assessment, at (703) 602-4322.

Title, Associated Form; and OMB Number: Industrial Capabilities Questionnaire; DD Form 2737; OMB Number 0704-0377.

Needs and Uses: As part of its responsibilities to facilitate a diverse, responsive, and competitive industrial base, the Department of Defense (DoD) requires accurate, pertinent, and up to date information as to industry's ability to satisfy defense needs. The Industrial Capabilities Questionnaire will be used by all Services and the Defense Logistics Agency to gather business, industrial capability (employment, skills, facilities, equipment, processes, and technologies), and manufactured end item information to conduct required industrial assessments and to support DoD strategic planning and decisions. Such data is essential to the Department of Defense for peacetime and wartime industrial base planning. All DD Form 2737 data submitted to the Department of Defense, Military Services or Defense Agencies are treated as Proprietary Company Confidential information and protected from release to other parties.

Affected Public: Business or other for-profit.

Annual Burden Hours: 12,800.

Number of Respondents: 153,600.

Responses Per Respondent: 1.

Average Burden Per Response: 12 hours.

Frequency: Annually.

SUPPLEMENTARY INFORMATION:

Summary of Information Collection

Respondents are industry professionals who provide information to the requesting DoD agency on the industrial capabilities associated with the subject facility being reviewed. The DoD agencies were directed to solicit only those data elements within this form necessary to conduct the particular planning or assessment task at hand. This approach is used to minimize the burden for data requests on industry and limit the retention of in-house data to that essential to supporting defense decisions and plans. A significant portion of this information will be collected electronically and, with appropriate measures to protect sensitive data, will be made available to authorized users in the Department to support a wide variety of industrial capability analyses. These analyses are used to support cost effective acquisition of defense systems and key troop support/consumable items, assess the implications of changes in defense spending on industry, development of responsive logistics support efforts, and industrial preparedness planning and readiness analyses. The lack of accurate, current and relevant industry capability information will adversely impact the integrity of the Department's decisions and planning efforts.

Dated: May 26, 2006.
Patricia L. Toppings,
Alternate OSD Federal Register Liaison Officer, Department of Defense.

[FR Doc. 06-5168 Filed 6-6-06; 8:45 am]

BILLING CODE 5001-06-M